DEPARTMENT OF JUSTICE

Federal Bureau of Prisons

Notice of Intent To Prepare a Draft Environmental Impact Statement (DEIS) for the Development of a Medium-Security Federal Correctional Facility in Pollock (Grant Parish), Louisiana.

AGENCY: Bureau of Prisons, Department of Justice.

ACTION: Notice of intent to prepare a draft environmental impact statement (DEIS).

SUMMARY:

Proposed Action

The United States Department of Justice, Federal Bureau of Prisons, has determined that an additional medium-security Federal Correctional Institution (FCI) is needed in its system. The Federal Bureau of Prisons (BOP) is facing unprecedented growth in its inmate population. As a result, medium-security correctional institutions will be impacted. The BOP currently controls a 464-acre parcel to the southeast of the Pollock Municipal Airport, located eight miles southwest of the Town of Pollock and 17 miles north of Alexandria, Louisiana. Construction is currently underway for a high-security U.S. Penitentiary, an adjacent minimum-security satellite Camp, and ancillary facilities that will serve the various components. The BOP proposes to construct and operate a medium-security FCI on a portion of the 464-acre parcel. The medium-security facility would provide habitation for approximately 1152 inmates. The site appears to be of sufficient size to provide space for housing, programs, administrative services and other support areas. However, the BOP will also analyze a 320-acre tract to the immediate west for the project and/or for future expansion. This Notice also initiates the BOP's responsibilities under the National Historic Preservation Act of 1966, as amended.

The Process

In the process of evaluating the site, several aspects will receive detailed examination including: but not limited to utilities, traffic patterns, noise levels, visual intrusion, threatened and endangered species, and socioeconomic impacts. Possible archeological and cultural resources will be studied and documented pursuant to the National Historic Preservation Act of 1966, as amended.

Alternatives

In developing the DEIS, the option of “no action” for the proposed facility will be fully and thoroughly examined.

Scoping Process

During the preparation of the DEIS, there will be opportunities for public involvement in order to determine the issues to be examined. A Scoping Meeting will be held at the Pollock Elementary School on 4001 Highway 8 at 7:00 p.m. on November 15, 2000, in Pollock, Louisiana. The meeting will be well publicized and will be held at a time which will make it possible for the public and interested agencies or organizations to attend. In addition, other meetings and discussions will be held by BOP representatives, local officials and other interested community parties.

DEIS Preparation

Public notice will be given concerning the availability of the DEIS for public review and comment.

Address

Questions concerning the proposed action and the DEIS may be directed to: David J. Dorworth, Chief, Site Selection and Environmental Review Branch, Federal Bureau of Prisons, 320 First Street, NW., Washington, D.C. 20534, Attention: Issac J. Gaston, telephone (202) 514-6470, telefacsimile (202) 616-6024, E-mail: siteselection@bop.gov.

Dated: October 12, 2000.
David J. Dorworth,
Chief, Site Selection and Environmental Review Branch.

[FR Doc. 00-26765 Filed 10-17-00; 8:45 am]

BILLING CODE 4410-05-P